NATIONAL SCIENCE FOUNDATION

Special Emphasis Panel in Computing-Communications Research; Notice of Meeting

In accordance with the Federal Advisory Committee Act (Pub. L. 92-463, as amended), the National Science Foundation announces the following meetings of the Special Emphasis Panel in Computing-Communications Research (1192):

Date/Time: October 28-29, 2000; 8 a.m.-5 p.m.

Place: The Asilomar Conference Grounds, 800 Asilomar Boulevard, Pacific Grove, CA.

Contact Person: John Cozzens, Program Director, Signal Processing System (SPS), CISE/CCR, Room 1145, National Science Foundation, 4201 Wilson Boulevard, Arlington, Virginia 22230; (703) 292-8912.

Agenda: To review and evaluate SPS CAREER proposals as a part of the selection process for awards.

Date/Time: November 8-10, 2000; 8 a.m.-5 p.m.

Place: National Science Foundation, 4201 Wilson Blvd, Room 1120, Arlington, VA.

Contact Person: Wm. Randolph Franklin, Program Director, Numeric, Symbolic & Geometric Computation, Room 1145, National Science Foundation, 4201 Wilson Boulevard, Arlington, Virginia 22230; (703) 292-1912.

Agenda: To review and evaluate NSG CAREER proposals as a part of the selection process for awards.

Date/Time: November 29-30, 2000; 8 a.m.-6 p.m.

Place: National Science Foundation, 4201 Wilson Blvd, Room 1150, Arlington, VA.

Contact Person: Yavuz Oruc, Program Director, Computer Systems Architecture, Room 1145, National Science Foundation, 4201 Wilson Boulevard, Arlington, Virginia 22230; (703) 292-8936.

Agenda: To review and evaluate Computer Systems Architecture CAREER proposals as a part of the selection process for awards.

Purpose of Meetings: Provide advice and recommendations concerning proposals submitted to NSF for financial support.

Type of Meetings: Closed.

Reason for Closing: The proposals being reviewed include information of a proprietary or confidential nature, including technical information, financial data, such as salaries, and personal information concerning individuals associated with the proposals. These matters are exempt under 5 U.S.C. 552b(c), (4) and (6) of the Government in the Sunshine Act.

Dated: October 16, 2000.
Karen J. York,
Committee Management Officer.

[FR Doc. 00-26980 Filed 10-19-00; 8:45 am]

BILLING CODE 7555-01-M